DEPARTMENT OF TRANSPORTATION

Federal Aviation Administration

14 CFR Part 39

[Docket No. FAA-2009-0133; Directorate Identifier 2008-NM-107-AD]

RIN 2120-AA64

Airworthiness Directives; BAE Systems (Operations) Limited Model BAe 146 and Avro 146-RJ Airplanes

AGENCY: Federal Aviation Administration (FAA), Department of Transportation (DOT).

ACTION: Notice of proposed rulemaking (NPRM).

SUMMARY: The FAA proposes to supersede an existing airworthiness directive (AD) that applies to all BAE Systems (Operations) Limited Model BAe 146 and Avro 146-RJ airplanes. The existing AD currently requires repetitive inspections for corrosion of frames 15, 18, 41, and 43 and applicable related investigative and corrective actions. The existing AD also provides an optional action that would extend the repetitive inspection interval. This proposed AD would add a high frequency eddy current inspection for corrosion of the outer frame flanges and door hinge bosses of frames 15, 18, 41, and 43. This proposed AD results from a report indicating that corrosion has been detected in the outer frame flanges and door hinge bosses during scheduled maintenance. We are proposing this AD to prevent reduced structural integrity of the airplane.

DATES: We must receive comments on this proposed AD by March 20, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact BAE Systems Regional Aircraft, 13850 McLearen Road, Herndon, Virginia 20171; telephone 703-736-1080; e-mail raebusiness@baesystems.com; Internet http://www.baesystems.com/Businesses/RegionalAircraft/index.htm. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2009-0133; Directorate Identifier 2008-NM-107-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 31, 2006, we issued AD 2006-12-09, amendment 39-14634 (71 FR 33602, June 12, 2006), for certain BAE Systems (Operations) Limited Model BAe 146 and Avro 146-RJ airplanes. That AD requires repetitive inspections for corrosion of frames 15, 18, 41, and 43 and applicable related investigative and corrective actions. That AD also provides an optional action that would extend the repetitive inspection interval. That AD resulted from a report indicating that in some cases the inspections required by an existing AD revealed no damage, yet frame corrosion and cracking were later found during scheduled maintenance in the two forward fuselage frames 15 and 18. We issued that AD to prevent reduced structural integrity of the airplane.

Actions Since Existing AD Was Issued

Since we issued AD 2006-12-09, we have received a report indicating that corrosion has been detected in the outer frame flanges and door hinge bosses during scheduled maintenance.

Relevant Service Information

BAE Systems (Operations) Limited has issued Inspection Service Bulletin ISB.53-182, Revision 1, dated August 6, 2007. We referred to BAE Systems (Operations) Limited Inspection Service Bulletin ISB.53-182, dated March 16, 2005, as the appropriate source of service information for accomplishing the required actions of AD 2006-12-09. The procedures in Revision 1 are essentially the same as the original issue of the service bulletin, except Revision 1 of the service bulletin adds procedures for doing a high frequency eddy current (HFEC) inspection for corrosion of the outer frame flanges and door hinge bosses of frames 15, 18, 41, and 43. Accomplishing the actions specified in the service information is intended to adequately address the unsafe condition. The European Aviation Safety Agency mandated the service information and issued airworthiness directive 2008-0092 R1, dated May 15, 2008 (referred to after this as “the MCAI”), to ensure the continued airworthiness of these airplanes in the European Union. The compliance times for the new actions are the same as for the existing actions.

FAA's Determination and Requirements of the Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would supersede AD 2006-12-09 and would retain the requirements of the existing AD. This proposed AD would also require accomplishing the additional inspection specified in the service bulletin described previously.

Change to Existing AD

This proposed AD would retain all requirements of AD 2006-12-09. Since AD 2006-12-09 was issued, the AD format has been revised, and certain paragraphs have been rearranged. As a result, the corresponding paragraph identifiers have changed in this proposed AD, as listed in the following table:

Revised Paragraph Identifiers
Requirement in AD 2006-12-09 | Corresponding requirement in this proposed AD
Paragraph (f) | Paragraph (g).
Paragraph (g) | Paragraph (h).
Paragraph (h) | Paragraph (i).
Paragraph (i) | Paragraph (p).
Paragraph (j) | Paragraph (j).

Costs of Compliance

The following table provides the estimated costs for U.S. operators to comply with this proposed AD.

Estimated Costs
Action | Work hours | Average labor rate per hour | Cost per airplane | Number of U.S.-registered airplanes | Fleet cost
HFEC inspection, per inspection cycle (required by AD 2006-12-09) | 5 | $80 | $400 | 1 | $400
Detailed Inspection, per inspection cycle (required by AD 2006-12-09) | 3 | 80 | 240 | 1 | 240
HFEC inspection, per inspection cycle (new proposed action) | 5 | 80 | 400 | 1 | 400

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14634 (71 FR 33602, June 12, 2006) and adding the following new airworthiness directive (AD):

BAE Systems (Operations) Limited (Formerly British Aerospace Regional Aircraft): Docket No. FAA-2009-0133; Directorate Identifier 2008-NM-107-AD.

Comments Due Date

(a) The FAA must receive comments on this AD action by March 20, 2009.

Affected ADs

(b) This AD supersedes AD 2006-12-09.

Applicability

(c) This AD applies to all BAE Systems (Operations) Limited Model BAe 146-100A, -200A, and -300A series airplanes; and Model Avro 146-RJ70A, 146-RJ85A, and 146-RJ100A airplanes; certificated in any category.

Subject

(d) Air Transport Association (ATA) of America Code 53: Fuselage.

Unsafe Condition

(e) This AD results from a report indicating that corrosion has been detected in the outer frame flanges and door hinge bosses during scheduled maintenance. We are issuing this AD to prevent reduced structural integrity of the airplane.

Compliance

(f) You are responsible for having the actions required by this AD performed within the compliance times specified, unless the actions have already been done.

Restatement of Requirements of AD 2006-12-09

Repetitive Inspections

(g) Use high-frequency eddy current (HFEC) and detailed methods to inspect for signs of corrosion (including cracks, blistering, or flaking paint) of frames 15, 18, 41, and 43, in accordance with the Accomplishment Instructions of BAE Systems (Operations) Limited Inspection Service Bulletin ISB.53-182, dated March 16, 2005, except as required by paragraph (k) of this AD. Inspect at the applicable time specified in 1.D. “Compliance” of BAE Systems (Operations) Limited Inspection Service Bulletin ISB.53-182, dated March 16, 2005. Application of corrosion-preventive treatment, in accordance with BAE Systems (Operations) Limited Inspection Service Bulletin ISB.53-182, dated March 16, 2005; or Revision 1, dated August 6, 2007; extends the repetitive inspection interval, as specified in Table 2 in 1.D. “Compliance” of BAE Systems (Operations) Limited Inspection Service Bulletin ISB.53-182, dated March 16, 2005.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Action

(h) If any discrepancy is found during any inspection required by paragraph (g) of this AD: Before further flight, perform applicable related investigative/corrective actions in accordance with the Accomplishment Instructions of BAE Systems (Operations) Limited Inspection Service Bulletin ISB.53-182, dated March 16, 2005, except as required by paragraphs (i) and (k) of this AD.

Exceptions to Service Bulletin Specifications

(i) If BAE Systems (Operations) Limited Inspection Service Bulletin ISB.53-182, dated March 16, 2005, specifies to contact the manufacturer for appropriate action, before further flight, repair per a method approved by the Manager, International Branch, ANM-116, Transport Airplane Directorate, FAA; or the Civil Aviation Authority (or its delegated agent); or European Aviation Safety Agency (EASA) (or its delegated agent).

(j) Where BAE Systems (Operations) Limited Inspection Service Bulletin ISB.53-182, dated March 16, 2005, specifies a compliance time after the issuance of the service bulletin, this AD requires compliance within the specified compliance time after July 17, 2006 (the effective date of AD 2006-12-09). Where BAE Systems (Operations) Limited Inspection Service Bulletin ISB.53-182, dated March 16, 2005, specifies a compliance time “since date of construction” of the airplane, this AD requires compliance since the date of issuance of the original standard airworthiness certificate or the date of issuance of the original export certificate of airworthiness.

New Requirements of This AD

New Service Bulletin

(k) As of the effective date of this AD: Do the actions required by paragraphs (g) and (h) of this AD in accordance with the Accomplishment Instructions of BAE Systems (Operations) Limited Inspection Service Bulletin ISB.53-182, Revision 1, dated August 6, 2007, except as required by paragraph (n) of this AD.

Additional Inspection Areas

(l) At the applicable compliance time specified in paragraph (g) of this AD, except as provided by paragraph (o) of this AD; or within six months after the effective date of this AD; whichever occurs later: Do an HFEC inspection for corrosion of the outer frame flanges and door hinge bosses of frames 15, 18, 41, and 43, in accordance with the Accomplishment Instructions of BAE Systems (Operations) Limited Inspection Service Bulletin ISB.53-182, Revision 1, dated August 6, 2007 (“the service bulletin”). Repeat the inspection thereafter at the applicable time specified in paragraph 1.D., “Compliance,” of the service bulletin. Application of corrosion-preventive treatment, in accordance with the Accomplishment Instructions of the service bulletin, extends the repetitive inspection interval, as specified in Table 2 in paragraph 1.D., “Compliance,” of the service bulletin.

Corrective Action for Additional Inspection

(m) If any discrepancy is found during any inspection required by paragraph (l) of this AD: Before further flight, perform applicable related investigative/corrective actions in accordance with the Accomplishment Instructions of BAE Systems (Operations) Limited Inspection Service Bulletin ISB.53-182, Revision 1, dated August 6, 2007, except as required by paragraph (n) of this AD.

Exception to BAE Systems (Operations) Limited Inspection Service Bulletin ISB.53-182, Revision 1

(n) If BAE Systems (Operations) Limited Inspection Service Bulletin ISB.53-182, Revision 1, dated August 6, 2007, specifies to contact the manufacturer for appropriate action, before further flight, repair per a method approved by the Manager, International Branch, ANM-116, Transport Airplane Directorate, FAA; or EASA (or its delegated agent).

(o) Where BAE Systems (Operations) Limited Inspection Service Bulletin ISB.53-182, Revision 1, dated August 6, 2007, specifies a compliance time after the issuance of the service bulletin, this AD requires compliance within the specified compliance time after the effective date of this AD. Where BAE Systems (Operations) Limited Inspection Service Bulletin ISB.53-182, Revision 1, dated August 6, 2007, specifies a compliance time “since date of construction” of the airplane, this AD requires compliance since the date of issuance of the original airworthiness certificate or the date of issuance of the original export certificate of airworthiness.

No Reporting

(p) Although BAE Systems (Operations) Limited Inspection Service Bulletin ISB.53-182, dated March 16, 2005; and Revision 1, dated August 6, 2007; specify to submit information to the manufacturer, this AD does not include such a requirement.

Alternative Methods of Compliance (AMOCs)

(q) The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

Related Information

(r) European Aviation Safety Agency airworthiness directive 2008-0092 R1, dated May 15, 2008, also addresses the subject of this AD.

Issued in Renton, Washington, on February 5, 2009.
Ali Bahrami,
Manager, Transport Airplane Directorate, Aircraft Certification Service.

[FR Doc. E9-3400 Filed 2-17-09; 8:45 am]

BILLING CODE 4910-13-P